SECURITIES AND EXCHANGE COMMISSION

[File No. 500-1]

In the Matter of Discovery Oil, Ltd., I/O Magic Corporation, Maydao Corporation, NX Global, Inc, and SensiVida Medical Technologies, Inc.; Order of Suspension of Trading

March 4, 2015.

It appears to the Securities and Exchange Commission that there is a lack of current and accurate information concerning the securities of Discovery Oil, Ltd. because it has not filed any periodic reports since the period ended September 30, 2010.

It appears to the Securities and Exchange Commission that there is a lack of current and accurate information concerning the securities of I/O Magic Corporation because it has not filed any periodic reports since the period ended September 30, 2011.

It appears to the Securities and Exchange Commission that there is a lack of current and accurate information concerning the securities of Maydao Corporation because it has not filed any periodic reports since the period ended September 30, 2011.

It appears to the Securities and Exchange Commission that there is a lack of current and accurate information concerning the securities of NX Global, Inc because it has not filed any periodic reports since the period ended October 31, 2011.

It appears to the Securities and Exchange Commission that there is a lack of current and accurate information concerning the securities of SensiVida Medical Technologies, Inc. because it has not filed any periodic reports since the period ended May 31, 2011.

The Commission is of the opinion that the public interest and the protection of investors require a suspension of trading in the securities of the above-listed companies. Therefore, it is ordered, pursuant to Section 12(k) of the Securities Exchange Act of 1934, that trading in the securities of the above-listed companies is suspended for the period from 9:30 a.m. EST on March 4, 2015, through 11:59 p.m. EDT on March 17, 2015.

By the Commission.
Jill M. Peterson,
Assistant Secretary.

[FR Doc. 2015-05371 Filed 3-4-15; 4:15 pm]

BILLING CODE 8011-01-P